DEPARTMENT OF TRANSPORTATION

Federal Aviation Administration

14 CFR Part 39

[Docket No. FAA-2017-0909; Product Identifier 2017-NM-081-AD; Amendment 39-19214; AD 2018-05-05]

RIN 2120-AA64

Airworthiness Directives; Dassault Aviation Airplanes

AGENCY: Federal Aviation Administration (FAA), Department of Transportation (DOT).

ACTION: Final rule.

SUMMARY: We are adopting a new airworthiness directive (AD) for certain Dassault Aviation Model MYSTERE-FALCON 900, FALCON 900EX, FALCON 2000, and FALCON 2000EX airplanes. This AD was prompted by reports of a loose screw on certain slat mechanical stop assemblies, and punctures in certain fuel caps. This AD requires a one-time inspection, and corrective action if necessary. We are issuing this AD to address the unsafe condition on these products.

DATES: This AD is effective April 11, 2018.

The Director of the Federal Register approved the incorporation by reference of certain publications listed in this AD as of April 11, 2018.

ADDRESSES: For service information identified in this final rule, contact Dassault Falcon Jet Corporation, Teterboro Airport, P.O. Box 2000, South Hackensack, NJ 07606; telephone 201-440-6700; internet http://www.dassaultfalcon.com. You may view this referenced service information at the FAA, Transport Standards Branch, 2200 South 216th St., Des Moines, WA. For information on the availability of this material at the FAA, call 206-231-3195. It is also available on the internet at http://www.regulations.gov by searching for and locating Docket No. FAA-2017-0909.

Examining the AD Docket

You may examine the AD docket on the internet at http://www.regulations.gov by searching for and locating Docket No. FAA-2017-0909; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE, Washington, DC 20590.

FOR FURTHER INFORMATION CONTACT: Tom Rodriguez, Aerospace Engineer, International Section, Transport Standards Branch, FAA, 2200 South 216th Street, Des Moines, WA 98198; telephone and fax 206-231-3226.

SUPPLEMENTARY INFORMATION:

Discussion

We issued a notice of proposed rulemaking (NPRM) to amend 14 CFR part 39 by adding an AD that would apply to certain Dassault Aviation Model MYSTERE-FALCON 900, FALCON 900EX, FALCON 2000, and FALCON 2000EX airplanes. The NPRM published in the Federal Register on October 24, 2017 (82 FR 49149) (“the NPRM”). The NPRM was prompted by reports of a loose screw on certain slat mechanical stop assemblies, and punctures in certain fuel caps. The NPRM proposed to require a one-time general visual inspection of the screw on the affected slat tracks, and replacement if necessary. We are issuing this AD to detect and correct loose screws that could lead to structural damage to the wing front spar, and consequent fuel leakage, possibly resulting in an uncontrolled fire.

The European Aviation Safety Agency (EASA), which is the Technical Agent for the Member States of the European Union, has issued EASA Airworthiness Directive 2017-0106, dated June 19, 2017 (referred to after this as the Mandatory Continuing Airworthiness Information, or “the MCAI”), to correct an unsafe condition for certain Dassault Aviation Model MYSTERE-FALCON 900, FALCON 900EX, FALCON 2000, and FALCON 2000EX airplanes. The MCAI states:

On some aeroplanes in-service, the screw of the slat mechanical stop assembly on slat tracks #6, #7 and #8 was found loose. In some cases, a puncture was found in the fuel cap. The results of the technical investigations concluded that the most probable reason for these events was improper installation of the lock washers on the screws during production or maintenance.

This condition, if not detected and corrected, could lead to structural damage to the wing front spar, and consequent fuel leakage, possibly resulting in an uncontrolled fire.

To address this potential unsafe condition, Dassault issued [Service Bulletin] SB F900-460 Revision 1, SB F900EX-508 Revision 3, SB F2000-433 Revision 1, and SB F2000EX-386 Revision 3 (hereafter collectively referred as `the applicable SB' in this [EASA] AD), as applicable to aeroplane type/model, to provide inspection instructions.

For the reasons described above, this [EASA] AD requires a one-time [general visual] inspection of the slat tracks #6, #7 and #8 to verify the tightening torque of the screw and proper lock washer installation and, depending on findings, accomplishment of applicable corrective action(s).

Applicable corrective actions include replacement, if necessary. You may examine the MCAI in the AD docket on the internet at http://www.regulations.gov by searching for and locating Docket No. FAA-2017-0909.

Comments

We gave the public the opportunity to participate in developing this final rule. We received no comments on the NPRM or on the determination of the cost to the public.

Conclusion

We reviewed the relevant data and determined that air safety and the public interest require adopting this AD as proposed, except for minor changes. We have determined that these minor changes:

• Are consistent with the intent that was proposed in the NPRM for correcting the unsafe condition; and

• Do not add any additional burden upon the public than was already proposed in the NPRM.

Related Service Information Under 1 CFR Part 51

Dassault Aviation has issued the following service information.

• Dassault Service Bulletin F900-460, Revision 1, dated February 10, 2017.

• Dassault Service Bulletin F900EX-508, Revision 3, dated February 10, 2017.

• Dassault Service Bulletin F2000-433, Revision 1, dated February 10, 2017.

• Dassault Service Bulletin F2000EX-386, Revision 3, dated February 10, 2017.

This service information describes procedures for doing a one-time general visual inspection of the screw on the affected slat tracks, and replacement if necessary. These documents are distinct since they apply to different airplane models. This service information is reasonably available because the interested parties have access to it through their normal course of business or by the means identified in the ADDRESSES section.

Costs of Compliance

We estimate that this AD affects 65 airplanes of U.S. registry.

We estimate the following costs to comply with this AD:

Estimated Costs
Action | Labor cost | Parts cost | Cost per product | Cost on U.S. operators
Inspection | 4 work-hours × $85 per hour = $340 | $0 | $340 | $22,100

We estimate the following costs to do any necessary replacements that would be required based on the results of the inspection. We have no way of determining the number of aircraft that might need this replacement:

On-Condition Costs
Action | Labor cost | Parts cost | Cost per product
Replacement | 6 work-hours × $85 per hour = $510 | $15 | $525

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866,

2. Is not a “significant rule” under the DOT Regulatory Policies and Procedures (44 FR 11034, February 26, 1979),

3. Will not affect intrastate aviation in Alaska, and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-05-05 Dassault Aviation: Amendment 39-19214; Docket No. FAA-2017-0909; Product Identifier 2017-NM-081-AD.

(a) Effective Date

This AD is effective April 11, 2018.

(b) Affected ADs

None.

(c) Applicability

This AD applies to Dassault Aviation airplanes, certificated in any category, as identified in paragraphs (c)(1) through (c)(4) of this AD.

(1) MYSTERE-FALCON 900, serial numbers as specified in Dassault Service Bulletin F900-460, Revision 1, dated February 10, 2017.

(2) FALCON 900EX, serial numbers as specified in Dassault Service Bulletin F900EX-508, Revision 3, dated February 10, 2017.

(3) FALCON 2000, serial numbers as specified in Dassault Service Bulletin F2000-433, Revision 1, dated February 10, 2017.

(4) FALCON 2000EX, serial numbers as specified in Dassault Service Bulletin F2000EX-386, Revision 3, dated February 10, 2017.

(d) Subject

Air Transport Association (ATA) of America Code 57, Wings.

(e) Reason

This AD was prompted by reports of a loose screw on certain slat mechanical stop assemblies, and punctures in certain fuel caps. We are issuing this AD to detect and correct loose screws that could lead to structural damage to the wing front spar, and consequent fuel leakage, possibly resulting in an uncontrolled fire.

(f) Compliance

Comply with this AD within the compliance times specified, unless already done.

(g) Required Actions

(1) Within 9 months or 440 flight hours, whichever occurs first after the effective date of this AD, do a general visual inspection of slat tracks #6, #7, and #8 for proper screw and lockwasher installation, in accordance with the Accomplishment Instructions of the applicable service information identified in paragraphs (c)(1) through (c)(4) of this AD.

(2) If, during the inspection required by paragraph (g)(1) of this AD, the tightening torque of the screw and/or the lockwasher installation is incorrect, before further flight, accomplish the applicable corrective action(s) in accordance with the Accomplishment Instructions of the applicable service information identified in paragraphs (c)(1) through (c)(4) of this AD.

(h) Credit for Previous Actions

This paragraph provides credit for actions required by paragraph (g) of this AD, if those actions were performed before the effective date of this AD using Dassault Service Bulletin F900EX-508, dated January 5, 2016; or Dassault Service Bulletin F2000EX-386, dated January 5, 2016, as applicable.

(i) No Reporting Requirement

Although the service information identified in paragraphs (c)(1) through (c)(4) of this AD specifies to submit certain information to the manufacturer, this AD does not include that requirement.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Dassault Aviation's EASA Design Organization Approval (DOA). If approved by the DOA, the approval must include the DOA-authorized signature.

(k) Related Information

(1) Refer to Mandatory Continuing Airworthiness Information (MCAI) EASA Airworthiness Directive 2017-0106, dated June 19, 2017, for related information. This MCAI may be found in the AD docket on the internet at http://www.regulations.gov by searching for and locating Docket No. FAA-2017-0909.

(2) For more information about this AD, contact Tom Rodriguez, Aerospace Engineer, International Section, Transport Standards Branch, FAA, 2200 South 216th Street, Des Moines, WA 98198; telephone and fax 206-231-3226.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Dassault Service Bulletin F900-460, Revision 1, dated February 10, 2017.

(ii) Dassault Service Bulletin F900EX-508, Revision 3, dated February 10, 2017.

(iii) Dassault Service Bulletin F2000-433, Revision 1, dated February 10, 2017.

(iv) Dassault Service Bulletin F2000EX-386, Revision 3, dated February 10, 2017.

(3) For service information identified in this AD, contact Dassault Falcon Jet Corporation, Teterboro Airport, P.O. Box 2000, South Hackensack, NJ 07606; telephone 201-440-6700; internet http://www.dassaultfalcon.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Renton, Washington, on February 20, 2018.
Michael Kaszycki,
Acting Director, System Oversight Division, Aircraft Certification Service.

[FR Doc. 2018-04260 Filed 3-6-18; 8:45 am]

BILLING CODE 4910-13-P